SURFACE TRANSPORTATION BOARD

[Docket No. FD 36443]

Illinois Central Railroad Company—Trackage Rights Exemption—Terminal Railway Alabama State Docks

Illinois Central Railroad Company (IC), a Class I railroad, has filed a verified notice of exemption under 49 CFR 1180.2(d)(7) to acquire overhead trackage rights on the relocated Brookley Lead, owned by the Terminal Railway Alabama State Docks (TASD),¹ which extends from the connection with IC's rail line at Frascati Interlocking near South Lawrence and Baker Streets to the connection at South Broad Street with IC's track into the Brookley Field Complex ² (the Complex), a distance of approximately 1.8 miles in Mobile, Ala.³ IC states that the trackage rights will replace IC's existing operating rights over TASD's former Brookley Lead route, which, according to IC, TASD acquired as ancillary track from IC's predecessor in 1982.⁴

¹ IC states that TASD is a department of the Alabama State Port Authority and a Class III switching and terminal carrier that operates approximately 75 miles of trackage serving the Port of Mobile and the surrounding area.

² IC states that the Brookley Field Complex is also known as the Mobile Aeroplex at Brookley.

³ An executed copy of the trackage rights agreement between IC and TASD was filed with IC's verified notice of exemption. According to IC, the Brookley Lead does not have mileposts.

⁴ IC states that its predecessor did not seek trackage rights authority for its operations over the Brookley Lead because of the ancillary nature of the trackage involved. IC further states, however, that, because it intends to utilize the rerouted Brookley Lead on an overhead basis to connect its mainline with its own ancillary trackage serving the Complex, it has filed this notice to obtain an exemption for such trackage rights operations.

The verified notice states that the proposed transaction will preserve IC's rights to access the Complex over the relocated Brookley Lead. The proposed transaction may be consummated on or after October 25, 2020, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions for stay must be filed by October 16, 2020 (at least seven days before the exemption becomes effective).

All pleadings, referring to Docket No. FD 36443, must be filed with the Surface Transportation Board, either via e-filing or in writing addressed to 395 E Street SW, Washington, DC 20423-0001. In addition, a copy of each pleading must be served on IC's representative, Michael J. Barron, Fletcher & Sippel LLC, 29 North Wacker Drive, Suite 800, Chicago, IL 60606-3208.

According to IC, this action is categorically excluded from environmental review under 49 CFR 1105.6(c), and from historic reporting under 49 CFR 1105.8(b)(3).

Board decisions and notices are available at www.stb.gov.

Decided: October 6, 2020.
By the Board, Allison C. Davis, Director, Office of Proceedings.
Jeffrey Herzig,
Clearance Clerk.

[FR Doc. 2020-22441 Filed 10-8-20; 8:45 am]

BILLING CODE 4915-01-P